DEPARTMENT OF ENERGY

Federal Energy Regulatory Commission

[Docket No. CP05-357-002]

Cheniere Creole Trail Pipeline Company; Notice of Amendment

February 28, 2006.

Take notice that on February 17, 2006, Cheniere Creole Trail Pipeline Company (Cheniere Creole Trail), 717 Texas Avenue, Suite 3100, Houston Texas 77002, pursuant to section 7(c) of the Natural Gas Act (NGA), filed in Docket No. CP05-357-002 to amend its pending application filed on May 23, 2005, to reflect the withdrawal of its request for authorization to construct and operate the 6.8-mile, 20-inch diameter Hackberry Lateral portion of its project. The filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding these applications should be directed to Patricia Outtrim, Cheniere Energy, Inc., 717 Texas Avenue, Suite 3100, Houston, Texas 77002, (713) 659-1361 or Lisa Tonery, King & Spalding LLP, 1185 Avenue of the Americas, New York, NY 10036, (212) 556-2307.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see 18 CFR 385.2001 (a)(1)(iii) and the instructions on the Commission's Web site under the “e-Filing” link. The Commission strongly encourages electronic filings.

Comment Date: March 21, 2006.

Magalie R. Salas,
Secretary.

[FR Doc. E6-3192 Filed 3-7-06; 8:45 am]

BILLING CODE 6717-01-P